NUCLEAR REGULATORY COMMISSION

10 CFR Parts 2, 19, 20, 21, 25, 26, 30, 31, 32, 34, 35, 36, 37, 39, 40, 50, 51, 52, 54, 55, 60, 61, 62, 63, 70, 71, 72, 73, 74, 75, 76, 81, 95, 110, 140, 150, 160, 170, and 171

[NRC-2025-0479]

RIN 3150-AL39

The Sunset Rule; Correction

AGENCY: Nuclear Regulatory Commission.

ACTION: Direct final rule; confirmation of effective date; correction.

SUMMARY: The U.S. Nuclear Regulatory Commission (NRC) is correcting a document published in the Federal Register on January 8, 2026, regarding the confirmation of effective date for the direct final rule published in the Federal Register on December 3, 2025, amending the NRC's regulations to insert a conditional sunset date into certain regulations in response to Executive Order 14270, “Zero-Based Regulatory Budgeting to Unleash American Energy.” This action is necessary to correct the number of comments docketed on the companion proposed rule.

DATES: Effective February 3, 2026.

ADDRESSES: Please refer to Docket ID NRC-2025-0479 when contacting the NRC about the availability of information for this action. You may obtain publicly available information related to this action by any of the following methods:

• Federal Rulemaking Website: Electronically at https://www.regulations.gov. Search for Docket ID NRC-2025-0479. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Araceli Billoch Colon, U.S. Nuclear Regulatory Commission, Washington, DC 20555-0001; telephone: 301-415-3302; email: araceli.billochcolon@nrc.gov.

SUPPLEMENTARY INFORMATION: The NRC has received correspondence requesting clarification of the number of comment submissions received on the proposed rule, “The Sunset Rule,” (90 FR 55699; December 3, 2025). The NRC received and docketed (Docket ID NRC-2025-0479) 15 comment submissions; only one version of four identical comments from the same individual has been posted to the docket. This document clarifies the administrative record for the rulemaking action.

NRC has included on the docket the two clarification requests; also on the docket is a submission from the Small Business Administration's Office of Advocacy, dated January 12, 2026, after the close of the comment period. The Office of Advocacy listed seven rules for NRC consideration that have been suggested by small entities. The NRC has been evaluating aspects of these rules during a wholesale review of its regulations at 10 CFR chapter I. All stakeholders will have opportunity to comment on NRC's proposals in a forthcoming set of proposed rules. The NRC will continue to consider regulatory matters affecting small entities when conducting sunset activities and Regulatory Flexibility Act section 610 reviews.

Correction

In the Federal Register of January 8, 2026, in FR Doc. 2026-00175, on page 553, in the second column, in the Supplementary Information section, correct the last complete sentence in the paragraph to read as follows:

“The NRC received and docketed 15 comments on the companion proposed rule (90 FR 55699; December 3, 2025).”

Dated: January 30, 2026.
For the Nuclear Regulatory Commission.
Araceli Billoch Colon,
Chief, Regulatory Analysis and Rulemaking Support Branch, Division of Rulemaking, Environmental, and Financial Support. Office of Nuclear Material Safety and Safeguards.

[FR Doc. 2026-02165 Filed 2-2-26; 8:45 am]

BILLING CODE 7590-01-P